DEPARTMENT OF THE INTERIOR

Bureau of Land Management

[COC 28313]

Public Land Order No. 7718; Partial Revocation of Public Land Order No. 725; Colorado

AGENCY: Bureau of Land Management, Interior.

ACTION: Public Land Order.

SUMMARY: This order partially revokes a Public Land Order insofar as it affects approximately 75 acres of National Forest System land withdrawn from all forms of appropriation under the public lands laws, including the mining laws and reserved for use by the Forest Service as the Rollinsville Ranger Station within the Roosevelt National Forest. This order also opens the land to sale under the authority of Public Law No. 109-54.

DATES: Effective Date: January 16, 2009.

FOR FURTHER INFORMATION CONTACT: John D. Beck, BLM Colorado State Office, 2850 Youngfield Street, Lakewood, Colorado 80215-7093, 303-239-3882.

SUPPLEMENTARY INFORMATION: This action makes the land available for sale under the authority of the Forest Service Facility Realignment and Enhancement Act of 2005 (Pub. L. No. 109-54).

Order

By virtue of the authority vested in the Secretary of the Interior by Section 204 of the Federal Land Policy and Management Act of 1976, 43 U.S.C. 1714 (2000), it is ordered as follows:

1. Public Land Order No. 725 (16 FR 5444 (1951)), which withdrew National Forest System lands from appropriation under the public land laws, including the mining laws and reserved them for use by the Forest Service as administrative sites, recreation areas, or for other public purposes, is hereby revoked only insofar as it affects the following described land:

Roosevelt National Forest

Sixth Principal Meridian

Rollinsville Ranger Station

T. 1 S., R. 73 W.,

Sec. 35, lot 13, SE¼NE¼NW¼ of lot 14, NE¼SE¼NW¼ of lot 17, and lots 18 and 19.

The area described contains approximately 75 acres in Boulder County.

2. Subject to valid existing rights, the land described in Paragraph 1 is hereby opened to sale in accordance with the Forest Service Facility Realignment and Enhancement Act of 2005 (Pub. L. No. 109-54).

Dated: November 20, 2008.
C. Stephen Allred,
Assistant Secretary—Land and Minerals Management.

[FR Doc. E8-29905 Filed 12-16-08; 8:45 am]

BILLING CODE 3410-11-P